DEPARTMENT OF HOMELAND SECURITY

Bureau of Customs and Border Protection

Notice of Cancellation of Customs Broker Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker local permits are cancelled with prejudice.

Name | Permit # | Issuing port
Eric Guillermety-Perez | 4914529 | San Juan.
Sherri Boynton | 98038 | Los Angeles.

Dated: January 12, 2005.
Jayson P. Ahern,
Assistant Commissioner, Office of Field Operations.

[FR Doc. 05-1098 Filed 1-19-05; 8:45 am]

BILLING CODE 4820-02-P